DEPARTMENT OF THE INTERIOR

Fish and Wildlife Service

[FWS-R4-ES-2016-N047; FXES11120400000-156-FF04EF2000]

Endangered and Threatened Wildlife and Plants; Receipt of Application for an Incidental Take Permit; Availability of Low-Effect Habitat Conservation Plan and Associated Documents; Osceola County, FL

AGENCY: Fish and Wildlife Service, Interior.

ACTION: Notice of availability; request for comment/information.

SUMMARY: We, the Fish and Wildlife Service (Service), announce the availability of an incidental take permit (ITP) and a habitat conservation plan (HCP). JKAF Investments, LLC, and Kathryn Kendrick Davidow Trust (applicants) request ITP TE81666B-0 under the Endangered Species Act of 1973, as amended (Act). The applicants anticipate taking about 0.5 acre of feeding, breeding, and sheltering habitat used by the sand skink and blue-tailed mole skink incidental to land preparation and construction in Osceola County, Florida. The applicant's HCP describes proposed minimization measures and mitigation measures to address the effects of development on the covered species.

DATES: We must receive your written comments on the ITP application and HCP on or before April 21, 2016.

ADDRESSES: See the SUPPLEMENTARY INFORMATION section for information on how to submit your comments on the ITP application and HCP. You may obtain a copy of the ITP application and HCP by writing the South Florida Ecological Services Office, Attn: Permit number TE81666B-0, U.S. Fish and Wildlife Service, 1339 20th Street, Vero Beach, FL 32960-3559. In addition, we will make the ITP application and HCP available for public inspection by appointment during normal business hours at this address.

FOR FURTHER INFORMATION CONTACT: Mr. Alfredo Begazo, South Florida Ecological Services Office (see ADDRESSES); telephone: 772-469-4234.

SUPPLEMENTARY INFORMATION: We, the Fish and Wildlife Service (Service), announce the availability of an incidental take permit (ITP) and a habitat conservation plan (HCP). JKAF Investments, LLC, and Kathryn Kendrick Davidow Trust (applicants) request ITP TE81666B-0 under the Endangered Species Act of 1973, as amended (16 U.S.C. 1531 et seq.; Act). The applicants anticipate taking about 0.5 acre of feeding, breeding, and sheltering habitat used by the sand skink (Neoseps reynoldsi) and blue-tailed mole skink (Eumeces egregius lividus) (skinks) incidental to land preparation and construction in Osceola County, Florida. The applicant's HCP describes proposed minimization measures and mitigation measures to address the effects of development on the covered species.

Submitting Comments

If you wish to comment on the ITP application or HCP, you may submit comments by any one of the following methods:

Email: alfredo_begazo@fws.gov. Use “Attn: Permit number “TE81666B-0” as your message subject line.

Fax: Alfredo Begazo, 772-469-4234, Attn.: Permit number “TE81666B-0.”

U.S. mail: Alfredo Begazo, South Florida Ecological Services Field Office, Attn: Permit number “TE81666B-0,” U.S. Fish and Wildlife Service, 1339 20th Street, Vero Beach, FL 32960-3559.

In-person drop-off: You may drop off comments or request information during regular business hours at the U.S. mail address.

Public Availability of Comments

Before including your address, phone number, email address, or other personal identifying information in your comments, you should be aware that your entire comment—including your personal identifying information—may be made publicly available at any time. While you can request in your comments that your personal identifying information be withheld from public review, we cannot guarantee that we will be able to do so.

Applicants' Proposed Project

We received an application for an incidental take permit, along with a proposed habitat conservation plan. The applicants request an ITP under section 10(a)(1)(B) of the Act (16 U.S.C. 1531 et seq.). If we approve the application, the applicants anticipate taking a total of approximately 0.5 acre of skink breeding, feeding, and sheltering habitat, incidental to land preparation and construction in Section 30, Township 25 South, and Range 27 East in Osceola County, Florida. The applicants currently have neither a time-frame for development nor a specific site plan; however, development of this parcel would likely include construction of one or more structures and a parking area, and installation of associated utilities.

The applicants propose to minimize impacts to skinks by preserving a total of 1 acre of skink-occupied habitat off site. The Service listed the skinks as threatened in 1987 (November 6, 1987; 52 FR 20715), effective December 7, 1987.

Our Preliminary Determination

We have made a preliminary determination that the applicants' project, including the mitigation measures, will individually and cumulatively have a minor or negligible effect on the species covered in the HCP. Therefore, our proposed issuance of the requested ITP qualifies as a categorical exclusion under the National Environmental Policy Act (NEPA), as provided by Department of the Interior implementing regulations in part 46 of title 43 of the Code of Federal Regulations (43 CFR 46.205, 46.210, and 46.215).We base our preliminary determination that issuance of the ITP qualifies as a low-effect action on the following three criteria: (1) Implementation of the project would result in minor or negligible effects on federally listed, proposed, and candidate species and their habitats; (2) Implementation of the project would result in minor or negligible effects on other environmental values or resources; and (3) Impacts of the project, considered together with the impacts of other past, present, and reasonably foreseeable similarly situated projects, would not result, over time, in cumulative effects to environmental values or resources that would be considered significant. This preliminary determination may be revised based on our review of public comments that we receive in response to this notice.

Next Steps

We will evaluate the HCP and comments submitted thereon to determine whether the application meets the requirements of section 10(a) of the Act. We will also evaluate whether issuance of the section 10(a)(1)(B) ITP complies with section 7 of the Act by conducting an intra-Service section 7 consultation. The results of this consultation, in combination with the above findings, will be used in the final analysis to determine whether or not to issue the ITP. If it is determined that the requirements of the Act are met, the ITP will be issued.

Authority

We provide this notice under Section 10 of the Endangered Species Act (16 U.S.C. 1531 et seq.) and NEPA regulations (40 CFR 1506.6).

Dated: March 14, 2016.
Roxanna Hinzman,
Field Supervisor, South Florida Ecological Services Office.

[FR Doc. 2016-06378 Filed 3-21-16; 8:45 am]

BILLING CODE 4333-15-P